DEPARTMENT OF STATE

[Public Notice 12028]

2022 Global Magnitsky Human Rights Accountability Act Annual Report

ACTION: Notice.

SUMMARY: This notice contains the text of the report required by the Global Magnitsky Human Rights Accountability Act, as submitted by the Secretary of State.

FOR FURTHER INFORMATION CONTACT: Andrew Self, email: SelfAH@state.gov, Phone: (202) 412-3586.

SUPPLEMENTARY INFORMATION: On December 21, 2022, the Under Secretary of State for Political Affairs approved the following report pursuant to the Global Magnitsky Human Rights Accountability Act (Pub. L. 114-328, Title XII, Subtitle F), as amended by Public Law 117-110, Section 6 (collectively, “the Act”), which is implemented and built upon by E.O. 13818 of December 20, 2017, “E.O. Blocking the Property of Persons Involved in Serious Human Rights Abuse or Corruption”(E.O. 13818). The text of the report follows:

Pursuant to Section 1264 of the Act, and in accordance with E.O. 13818, the Secretary of State, in consultation with the Secretary of the Treasury, submits this report to detail the Administration's implementation of the Act in the 2022 reporting period.

In 2022, the United States took significant action under the Global Magnitsky sanctions program (“Global Magnitsky”), designating 35 foreign persons over the course of the year. As of December 10, 2022, the United States has designated a total of 450 foreign persons (individuals and entities) pursuant to E.O. 13818. This sanctions program, which targets those connected to serious human rights abuse, corrupt actors, and their enablers, represents the best of the United States' values and enduring commitment to promote respect for human rights and combat corruption around the world. Through the Act and E.O. 13818, the United States has sought to disrupt and deter serious human rights abuse and corruption abroad; promote accountability for those who act with impunity; and maintain U.S. global leadership on anticorruption and human rights promotion in coordination with U.S. partners, allies, and civil society where appropriate. In recognition of the repeal of Section 1265 of the Act, signed into law on April 8, 2022 in Public Law 117-110, Section 6 (which enables the Reauthorization of Sanctions Under the Global Magnitsky Human Rights Accountability Act with Respect to Human Rights Violations and Corruption), the Administration can and will continue to utilize this tool to promote respect for human rights and the rule of law globally.

As the President outlined in his National Security Strategy (NSS), the United States will stand with our allies and partners to combat new threats aimed at our democracies. The Administration will take special aim at confronting corruption, which rots democracy from the inside, erodes government stability, impedes economic development, and is increasingly weaponized by authoritarian states to undermine democratic institutions. The United States seeks to promote respect for human rights; address discrimination, inequity, and marginalization in all its forms; and stand up for democracy, the rule of law, and human dignity. On all these issues, the United States works to forge a common approach with likeminded countries. Through implementation of the Global Magnitsky sanctions program, the Administration is taking action to execute the President's vision as described in the NSS.

The Global Magnitsky program and cooperation with like-minded international partners directly address the objectives outlined in the President's 2021 Memorandum on Establishing the Fight Against Corruption as a Core National Security Interest. This memorandum states that corruption threatens U.S. national security, economic equity, global anti-poverty and development efforts, and democracy itself. It directs U.S. government action to strengthen efforts to hold accountable corrupt individuals and their facilitators, including by, where appropriate, identifying, freezing, and recovering stolen assets through sanctions or other authorities; bolster the capacity of domestic and international institutions and multilateral bodies focused on establishing global anti-corruption norms; and work with international partners to counteract strategic corruption by foreign leaders, foreign state-owned or affiliated enterprises, and other foreign actors and their domestic collaborators.

On December 20, 2021, President Biden elevated anti-corruption to the forefront of U.S. national security strategy with the first ever U.S. Strategy on Countering Corruption, consisting of five mutually reinforcing pillars, including (i) Modernizing, Coordinating, and Resourcing U.S. Government Efforts to Fight Corruption, (ii) Curbing Illicit Finance, (iii) Holding Corrupt Actors Accountable, (iv) Preserving and Strengthening the Multilateral Anti-Corruption Architecture, and (v) Improving Diplomatic Engagement and Leveraging Foreign Assistance. This anti-corruption strategy spotlights the Global Magnitsky sanctions program among the U.S. government's foreign policy tools for promoting global accountability for serious human rights abuse and corruption through the imposition of financial sanctions on foreign persons.

Actions taken in 2022 continue to demonstrate the reach, flexibility, and broad scope of Global Magnitsky. The United States responded to serious human rights abuse and corruption globally, deterring and disrupting some of the most egregious behavior by foreign actors. These actions targeted, among others, corrupt politicians undermining the rule of law in Central America and a People's Republic of China (PRC) fishing network connected to serious human rights abuse involving forced labor. The actions against the PRC fishing network in particular demonstrated the U.S. government's ongoing effort to impose tangible and significant consequences on those engaged in serious human rights abuse, including on those vessels engaged in illegal, unreported, and unregulated (IUU) fishing.

As noted in the Presidential Memorandum on Combating Illegal, Unreported, and Unregulated Fishing and Associated Labor Abuses, if IUU fishing and associated labor abuses are left unchecked, they threaten the livelihoods and human rights of fishers around the world and undermine U.S. economic competitiveness, national security, and fishery sustainability. This was the first time the United States has sanctioned an entity connected to serious human rights abuse related to forced labor issues. Where applicable, the United States used Global Magnitsky sanctions in coordination with international law enforcement actions, including Drug Enforcement Administration and Federal Bureau of Investigation (FBI) investigations, extraditions, and indictments. These designations demonstrate the Administration's resolve to leverage this important tool judiciously and to strategic effect.

When considering financial sanctions under Global Magnitsky, the United States prioritizes actions that are expected to produce a tangible and significant impact on corrupt actors, serious human rights abusers, and their affiliates, and prompt changes in behavior or disrupt the activities of malign actors. Sanctions under the Global Magnitsky program aim to target systemic corruption and human rights abuse, including the networks that engage in, facilitate, or perpetuate sustained patterns of such illicit behavior rather than incidental acts by individual targets. Persons sanctioned pursuant to this authority appear on the Office of Foreign Assets Control's (OFAC's) List of Specially Designated Nationals and Blocked Persons (SDN List). As a result of these actions, all property and interests in property of the sanctioned persons that are in the United States or in the possession or control of U.S. persons are blocked and must be reported to OFAC. Unless authorized by a general or specific license issued by OFAC or otherwise exempt, OFAC's regulations generally prohibit all transactions by U.S. persons or within (or transiting) the United States that involve any property or interests in property of designated or otherwise blocked persons. The prohibitions include the making of any contribution or provision of funds, goods, or services by, to, or for the benefit of any blocked person or the receipt of any contribution or provision of funds, goods or services from any such person.

In 2022, the Secretary of the Treasury, in consultation with the Secretary of State and the Attorney General, imposed financial sanctions on the following 35 foreign persons (individuals and entities) pursuant to E.O. 13818 (ordered by date of designation):

Sudan

• Central Reserve Police: The Central Reserve Police (CRP) was designated on March 21, 2022, for being a foreign person responsible for or complicit in, or that has directly or indirectly engaged in, serious human rights abuse. The CRP is a militarized Sudanese police unit that has been at the forefront of the Sudanese security forces' violent response to peaceful protests in Khartoum. On January 17, 2022, the CRP and the anti-riot police led a deployment of Sudanese security forces to suppress demonstrations across Khartoum. Using live ammunition, CRP officers fired on protestors throughout the day. When protestors fled the scene, CRP, anti-riot police, and regular police chased them, arresting and beating some with batons and gun butts.

Liberia

• Bill Twehway: Twehway was designated on August 15, 2022, for being a foreign person who is a current government official who is responsible for or complicit in, or who has directly or indirectly engaged in, corruption, including the misappropriation of state assets, the expropriation of private assets for personal gain, corruption related to government contracts or the extraction of natural resources, or bribery. Twehway is the current Managing Director of the National Port Authority (NPA). Twehway orchestrated the diversion of $1.5 million in vessel storage fee funds from the NPA into a private account. Twehway secretly formed a private company to which, through his position at the NPA, he later unilaterally awarded a contract for loading and unloading cargo at the Port of Buchanan. Twehway and others used family members to obfuscate their own involvement in the company while still benefitting financially from the company.

• Sayma Syrenius Cephus: Cephus was designated on August 15, 2022, for being a foreign person who is a current government official who is responsible for or complicit in, or who has directly or indirectly engaged in, corruption, including the misappropriation of state assets, the expropriation of private assets for personal gain, corruption related to government contracts or the extraction of natural resources, or bribery. Cephus is the current Solicitor General and Chief Prosecutor of Liberia. Cephus has received bribes from individuals in exchange for having their cases dropped; worked behind the scenes to establish arrangements with subjects of money laundering investigations to cease investigations in order to personally benefit financially; utilized his position to hinder investigations and block the prosecution of corruption cases involving members of the government; and has been accused of tampering with and purposefully withholding evidence in cases involving members of opposition political parties to ensure conviction.

• Nathaniel McGill: McGill was designated on August 15, 2022, for being a foreign person who is a current government official who is responsible for or complicit in, or who has directly or indirectly engaged in, corruption, including the misappropriation of state assets, the expropriation of private assets for personal gain, corruption related to government contracts or the extraction of natural resources, or bribery. During his tenure in government, McGill has bribed business owners, received bribes from potential investors, and accepted kickbacks for steering contracts to companies in which he has an interest. McGill is credibly accused of involvement in a wide range of other corrupt schemes including soliciting bribes from government office seekers and misappropriating government assets for personal gain.

Moldova

• Vladimir Plahotniuc: Plahotniuc was designated on October 26, 2022, for being a foreign person who is a former government official who is responsible for or complicit in, or who has directly or indirectly engaged in corruption, including the misappropriation of state assets, the expropriation of private assets for personal gain, corruption related to government contracts or the extraction of natural resources, or bribery. Plahotniuc is a former Moldovan Member of Parliament who served as both de facto leader and elected chair of the Democratic Party of Moldova (PDM). Plahotniuc directed Moldovan law enforcement to focus investigations on individuals and entities that were in political opposition to him and the PDM in advance of elections in 2018. Plahotniuc also used Moldovan government officials as intermediaries to bribe law enforcement officials in order to maintain their loyalty and further cement his control over Moldova; explicitly engaged in corrupt arrangements with Moldovan government officials; and attempted to bribe Moldovan politicians to switch political parties. Plahotniuc controlled the judicial system and used Moldovan courts to manipulate and invalidate the June 2018 mayoral election in Chisinau and close voting stations in areas where his party was not expected to do well. Plahotniuc maintained control of key media outlets, further enabling his influence and ability to exert leverage over the government to target his opponents and protect himself and his allies.

Guatemala

• Dmitry Kudryakov: Kudryakov was designated on November 18, 2022, for being a foreign person who materially assisted, sponsored, or provided financial, material, or technological support for, or goods or services to or in support of corruption, including the misappropriation of state assets, corruption related to government contracts, or the extraction of natural resources, or bribery. Kudryakov, a Russian national, led multiple bribery schemes over several years involving politicians, judges, and government officials to exploit the Guatemalan mining sector. Kudryakov is the leader of Solway Investment mining operations in Guatemala.

• Iryna Litviniuk: Litviniuk was designated on November 18, 2022, for being a foreign person who materially assisted, sponsored, or provided financial, material, or technological support for, or goods or services to or in support of corruption, including the misappropriation of state assets, corruption related to government contracts, or the extraction of natural resources, or bribery. Litviniuk, a Belarusian national, led multiple bribery schemes over several years involving politicians, judges, and government officials to exploit the Guatemalan mining sector. Litviniuk conducted corrupt acts in furtherance of Russian influence peddling schemes by unlawfully giving cash payments to public officials in exchange for support for Russian mining interests.

• Compania Guatemalteca de Niquel, Compania Procesadora de Niquel, and Mayaniquel: Compania Guatemalteca de Niquel (CGN), Compania Procesadora de Niquel (ProNiCo), and Mayaniquel were designated on November 18, 2022, for their connection with Kudryakov and Litviniuk's corruption schemes. These entities are subsidiaries of the Solway Investment group, a Russian enterprise that has exploited Guatemalan mines since 2011. CGN, ProNiCo, and Mayaniquel are subsidiaries of the Russian enterprise Solway Investment group and are owned or controlled by, directly or indirectly, Kudryakov. CGN, ProNiCo, and Mayaniquel are registered in Guatemala.

• Allan Estuardo Rodriguez Reyes: Rodriguez Reyes was designated on December 9, 2022, for being a foreign person who is a former government official who is responsible for or complicit in, or who has directly or indirectly engaged in corruption, including the misappropriation of state assets, the expropriation of private assets for personal gain, corruption related to government contracts or the extraction of natural resources, or bribery. Rodriguez Reyes utilized his authority as President of Congress to award construction grants in exchange for financial kickbacks. Rodriguez Reyes has used his political influence to strike deals in exchange for bribes and facilitated bribes to others, including, for example, by allegedly offering bribes for votes on a state of emergency bill during a floor session of congress.

• Jorge Estuardo Vargas Morales: Vargas Morales was designated on December 9, 2022, for being a foreign person who is a current or former government official who is responsible for or complicit in, or who has directly or indirectly engaged in corruption, including the misappropriation of state assets, the expropriation of private assets for personal gain, corruption related to government contracts or the extraction of natural resources, or bribery. Vargas Morales is a Guatemalan congressman and one of several individuals at the apex of a network designed to control contracts and operations at government-run ports for personal profit. He oversees project execution once contracts are awarded and pays out a percentage to board members who vote in favor. Additionally, Vargas Morales controls employment at the port through his influence in the port labor unions and uses those unions to gain political leverage. He maintains loyalties by paying bribes in exchange for unions creating blockades and strikes to advance his political objectives.

• Luis Alfonso Chang Navarro: Chang Navarro was designated on December 9, 2022, for being a foreign person who is a current or former government official who is responsible for or complicit in, or who has directly or indirectly engaged in corruption, including the misappropriation of state assets, the expropriation of private assets for personal gain, corruption related to government contracts or the extraction of natural resources, or bribery. Chang Navarro was the Minister of Energy and Mines from 2016-2020; additionally, as Minister of Energy and Mines, Chang Navarro was the head of the board of Guatemala's National Electrification Institute (INDE) and allegedly used his position to secure kickbacks. He solicited bribes and other favors in exchange for not revoking an oil exploitation license. Chang Navarro's modus operandi was to use his position as Minister to “create problems” for a business and then offer a solution in exchange for bribes and other unlawful favors.

El Salvador

• Conan Tonathiu Castro Ramirez: Castro Ramirez was designated on December 9, 2022, for being a foreign person who is a current or former government official who is responsible for or complicit in, or who has directly or indirectly engaged in corruption, including the misappropriation of state assets, the expropriation of private assets for personal gain, corruption related to government contracts or the extraction of natural resources, or bribery. Castro Ramirez, during his tenure as Presidential Legal Secretary, obstructed investigations into the misappropriation of public funds during the government's response to the pandemic and used his office for personal financial gain.

• Oscar Rolando Castro: Rolando Castro was designated on December 9, 2022, for being a foreign person who is a current or former government official who is responsible for or complicit in, or who has directly or indirectly engaged in corruption, including the misappropriation of state assets, the expropriation of private assets for personal gain, corruption related to government contracts or the extraction of natural resources, or bribery. As Minister of Labor, Rolando Castro engaged in corruption and misappropriated public funds for his personal benefit. As Minister, Rolando Castro used his position to influence unions to align with the Ministry of Labor's political interests and engage in activities that benefitted him and his political allies in order to receive expedited processing of their credentials. Some of those who agreed received additional benefits, such as favored access for international travel while some of those who refused to align with Rolando Castro faced harassment, retaliation, and delayed union certification.

Guinea

• Alpha Conde: Conde was designated on December 9, 2022, for being a foreign person who is or has been a leader or official of an entity, including any government entity, that has engaged in, or whose members have engaged in, serious human rights abuse relating to his tenure. Conde is the former President of Guinea who was ousted in a coup d'état in September 2021. Under his presidency, security forces engaged in violence against supporters of Conde's opposition leading up to a March 2020 constitutional referendum that enabled Conde to run for a third term. Violence against opposition members continued through and after the October 2020 Guinean presidential election. In early 2020, Conde ordered ministers to create a police unit to respond to anti-Conde protesters, with violence if necessary. Around the October 2020 Guinean presidential election, security forces used excessive force to disperse opposition supporters. Among other incidents, security forces reportedly fired live bullets into crowds that had gathered to celebrate the victory announcement of Conde's opposition and shot two minors, killing one, and shooting one in the back as he ran away. After the October 2020 election, security forces reportedly killed over a dozen individuals, including individuals killed at close range who presented no immediate danger to the security forces.

Mali

• Karim Keita: Keita was designated on December 9, 2022, for being a foreign person who is a current or former government official who is responsible for or complicit in, or who has directly or indirectly engaged in corruption, including the misappropriation of state assets, the expropriation of private assets for personal gain, corruption related to government contracts or the extraction of natural resources, or bribery. Keita is the son of former Mali President Ibrahim Boubacar Keita and the former president of the Security and Defense Commission of Mali's National Assembly. Keita oversaw Mali's defense spending from February 2014 until August 2020, when the military overthrew his father. Keita allegedly used his position to receive bribes, assign contracts to affiliates who subsequently paid him kickbacks, and embezzle government funds by overpaying on contracts for materiel. Through his father, Keita allegedly arranged to remove from their positions officials who did not support his corruption. Keita also ostensibly arranged bribes to support his father's re-election. After his father was ousted, Keita fled to Cote d'Ivoire, where he serves as the CEO of Konijane Strategic Marketing.

• Konijane Strategic Marketing: Konijane Strategic Marketing was designated on December 9, 2022, for being owned or controlled by Keita. Keita currently serves as the CEO of Konijane Strategic Marketing.

Philippines

• Apollo Quiboloy: Quiboloy was designated on December 9, 2022, for being a foreign person who is or has been responsible for or complicit in, or has directly or indirectly engaged in, serious human rights abuse. For more than a decade, Quiboloy, the founder of The Kingdom of Jesus Christ, The Name Above Every Name (KOJC) church in the Philippines, engaged in serious human rights abuse, including a pattern of systemic and pervasive rape of girls as young as 11 years old, as well as other physical abuse. In 2021, a federal indictment alleged Quiboloy was involved in sex trafficking “pastorals”—young women within the KOJC selected to work as personal assistants for Quiboloy. Pastorals were directed to have “night duty,” which required them to have sexual intercourse with Quiboloy on a determined schedule. Quiboloy kept pastorals in various countries, including the Philippines and the United States. Quiboloy also subjected pastorals and other KOJC members to other forms of physical abuse. Reports indicate Quiboloy personally beat victims and knew where to hit them so there would be no visible bruising. Pastorals and KOJC members who angered Quiboloy were at times sent to “Upper Six,” a walled compound used solely for punishment.

PRC

• Li Zhenyu: Li was designated on December 9, 2022, for being a foreign person who is a leader or official of an entity, including any government entity, that has engaged in, or whose members have engaged in serious human rights abuse relating to the leader's or official's tenure. Li is the chairman and general manager of Dalian Ocean Fishing Co., Ltd.

• Zhuo Xinrong: Zhuo was designated on December 9, 2022, for being a foreign person who is a leader or official of an entity, including any government entity, that has engaged in, or whose members have engaged in serious human rights abuse relating to the leader's or official's tenure. Zhuo is the founder, chairman and CEO of Pingtan Marine Enterprise, Ltd.

• Dalian Ocean Fishing Co., Ltd.: Dalian Ocean Fishing Co., Ltd. (DOF) was designated on December 9, 2022, for being owned or controlled by Li. DOF is responsible for the day-to-day operations of its fleet. DOF committed abuses against crew members including widespread reports of withheld pay, malnutrition, overwork, physical assault, deceptive recruiting practices, confiscation of identity documents, punishing work, physical abuse, and 10 crew member deaths. DOF received almost $8 million annually in PRC government subsidies.

• Pingtan Marine Enterprise, Ltd.: Pingtan Marine Enterprise, Ltd. (PME) was designated on December 9, 2022, for being owned or controlled by Zhuo. PME operates a large fleet of nearly 100 fishing vessels and reefer ships. Its vessels have been involved in serious human rights abuse and implicated in IUU fishing and other illegal activity in Indonesia, East Timor, and Ecuador. Crewmembers aboard PME-owned vessels reported instances of forced labor, withheld pay and food, physical violence, and gross negligence which led to the death of a crew member. In 2021, Pingtan Fishing received a $19 million subsidy from the PRC government as an incentive to develop its distant water fishing industry.

• Heroic Treasure Limited, Mars Harvest Co. Ltd., Merchant Supreme Co. Ltd., Prime Cheer Corporation Ltd., Pingtan Guansheng Ocean Fishing Co., Ltd., Fujian Heyue Marine Fishing Development Co., Ltd., and Pingtan County Ocean Fishing Group Co., Ltd. along with 157 vessels: These persons were designated on December 9, 2022, for being directly or indirectly owned or controlled by Li, Zhuo, DOF, or PME.

• Fuzhou Honglong Ocean Fishing Co., Ltd: Fuzhou was designated on December 9, 2022, for having materially assisted, sponsored, or provided financial, material, or technological support for, or goods or services to or in support of, PME.

• Wu Yingjie: Wu was designated on December 9, 2022, for being a foreign person who is responsible for or complicit in, or who has directly or indirectly engaged in, serious human rights abuse. Wu was the Tibetan Autonomous Region (TAR) Party Secretary between 2016 and 2021. During this timeframe, Wu directed government officials to engage in “stability policies.” The implementation of these stability policies involved serious human rights abuse, including physical abuse, arbitrary arrests and detentions in the TAR.

• Zhang Hongbo: Zhang was designated on December 9, 2022, for being a leader or official of an entity, including a government entity, that has engaged in, or whose members have engaged in, serious human rights abuse. Zhang has been the director of the Tibetan Public Security Bureau (TPSB) since 2018 through at least November 2022. Zhang has worked to advance the PRC's goals and policies in the TAR as “Tibet's police chief.” During Zhang's tenure, the TPSB engaged in serious human rights abuse, including arbitrary detention and physical abuse.

Iran

• Ali Akbar Javidan: Javidan was designated on December 9, 2022, for being a foreign person who is or has been a leader or official of an entity, including any government entity, that has engaged in, or whose members have engaged in, serious human rights abuse relating to his tenure. Javidan is the Law Enforcement Forces of the Islamic Republic of Iran (LEF) commander in Iran's Kermanshah Province who has direct oversight over forces that have killed protesters, including children and the elderly. The LEF was designated in 2011 pursuant to E.O. 13553, an Iran human rights authority, for being responsible for or complicit in serious human rights abuses in Iran since the June 2009 disputed presidential election. The LEF has repeatedly used excessive force in response to protests in Iran in recent years, reportedly resulting in the deaths of hundreds of unarmed protesters. Javidan has made public statements justifying the police response to the ongoing protests while valorizing the LEF forces for suppressing them. Javidan also publicly vowed to punish so-called moral crimes, including the alleged improper wearing of the hijab, during a July 2022 roundup of 1,700 people.

• Allah Karam Azizi: Azizi was designated on December 9, 2022, for being a foreign person who is or has been a leader or official of an entity, including any government entity, that has engaged in, or whose members have engaged in, serious human rights abuse relating to his tenure. Azizi is the warden of Iran's notorious Rejaee Shahr Prison. Rejaee Shahr Prison is known to house political prisoners and those who protest against the regime. Those imprisoned there have suffered serious physical abuse at the hands of the prison's guards. Azizi has reportedly ordered these abuses.

Visa Restrictions Imposed

Persons designated pursuant to E.O. 13818 are subject to the entry restrictions articulated in section 2, unless an exception applies. Section 2 provides that the entry of persons designated under section 1 of the order is suspended pursuant to Presidential Proclamation 8693.

In 2022, the Department took steps to impose visa restrictions, when appropriate, on foreign persons involved in certain human rights violations andsignificantcorruption pursuant to other authorities, including Presidential Proclamations 7750 and 8697, and Section 7031(c) of the Department of State, Foreign Operations, and Related Programs Appropriations Act and will continue to identify individuals subject to those authorities as appropriate. In addition, the Department continues to implement all grounds of inadmissibility in the Immigration and Nationality Act (INA), including INA section 212(a)(3)(E) which renders applicants ineligible for visas if a consular officer has reason to believe that they participated in acts of genocide, torture or extrajudicial killings.

Efforts To Encourage Governments of Other Countries To Impose Sanctions Similar to Those Authorized by the Act

The United States recognizes that our sanctions are most impactful when implemented in coordination with our foreign partners. In 2022, the Administration continueditssuccessful outreach campaign to international partners regarding the expansion and use of domestic and multilateral anticorruption and human rights sanctions regimes. Over thecourse of the reporting period, the Administration coordinated with like-minded partnersin pursuing coordinated actions against human rights abusers and corrupt actors, particularly in the run up to annual International Anti-Corruption Day and Human Rights Day. On December 9, the United States designated a total of 25 individuals and entities. The United Kingdom, Canada, and Australia joined us with actions against targets connected to human rights abuses in Iran. Additionally, the United Kingdom's tranche of sanctions under its Global Anti-Corruption and Global Human Rights regimes included individuals and entities previously designated by the United States under Global Magnitsky: Vladimir Plathoniuc (designated under E.O. 13818 on October 26, 2022), Milan Radoicic (designated under E.O. 13818 on Dec 8, 2021), and Zvonko Veselinovic (designated under E.O. 13818 on Dec 8, 2021).

The United States is closely following the development of a European Union (EU) anti-corruption sanctions authority and stands ready to support EU efforts by sharing insights and offering technical support, including regarding evidence collection, addressing legal challenges, and evidentiary requirements. The Departments of State and the Treasury have, over the last year, shared information, coordinated messaging, identified areas of potential collaboration, and provided technical assistance to this end. The Administration will continue to seek out additional allies and partners, including meaningful input from civil society, to leverage all tools at our disposal to deny access to the United States and international financial systems and deny entry to the United States to all those who engage in serious human rights abuse and corruption.

Andrew Self,
Sanctions Officer, Bureau of Economic and Business Affairs, Department of State.

[FR Doc. 2023-06749 Filed 3-30-23; 8:45 am]

BILLING CODE 4710-AE-P